DEPARTMENT OF HOMELAND SECURITY

Coast Guard

[Docket No. USCG-2016-0663]

National Maritime Security Advisory Committee; Vacancies

AGENCY: Coast Guard, Department of Homeland Security.

ACTION: Request for applications.

SUMMARY: The Coast Guard seeks applications for membership on the National Maritime Security Advisory Committee. The National Maritime Security Advisory Committee provides advice and makes recommendations on national maritime security matters to the Secretary of Homeland Security via the Commandant of the United States Coast Guard.

DATES: Completed applications should reach the Coast Guard on or before October 24, 2016.

ADDRESSES: Applicants should send a cover letter expressing interest in an appointment to the National Maritime Security Advisory Committee that identify which membership category the applicant is applying under, along with a resume detailing the applicant's experience via one of the following methods:

• By Email: ryan.f.owens@uscg.mil, Subject line: National Maritime Security Advisory Committee (preferred);

• By Fax: 202-372-8353, ATTN: Mr. Ryan Owens, National Maritime Security Advisory Committee, Alternate Designated Federal Officer; or

• By Mail: Mr. Ryan Owens, National Maritime Security Advisory Committee, Alternate Designated Federal Officer, CG-FAC, U.S. Coast Guard Headquarters, 2703 Martin Luther King Jr. Avenue SE., Washington, DC 20593, Stop 7501, Washington, DC 20593-7501.

FOR FURTHER INFORMATION CONTACT: Mr. Ryan Owens, Commandant (CG-FAC-1), the National Maritime Security Advisory Committee Alternate Designated Federal Officer, U.S. Coast Guard Headquarters, 2703 Martin Luther King Jr. Avenue SE., Washington, DC 20593, Stop 7501, Washington, DC 20593-7501, ryan.f.owens@uscg.mil, Phone: 202-372-1108, Fax: 202-372-8353.

SUPPLEMENTARY INFORMATION: The National Maritime Security Advisory Committee is an advisory committee established in accordance with the provisions of the Federal Advisory Committee Act, (Title 5 U.S.C. Appendix). As specified in 46 U.S.C. 70112, the National Maritime Security Advisory Committee advises, consults with, and makes recommendations to the Secretary via the Commandant of the Coast Guard on matters relating to national maritime security.

The full Committee normally meets at least two times each fiscal year. Working group meetings and teleconferences are held more frequently, as needed. The Committee may also meet for extraordinary purposes.

Each member serves for a term of 3 years. Members may be considered to serve a maximum of two consecutive terms. While attending meetings or when otherwise engaged in committee business, members may be reimbursed for travel and per diem expenses as permitted under applicable Federal travel regulations. However, members will not receive any salary or other compensation for their service on the National Maritime Security Advisory Committee.

We will consider applications for positions listed in the categories below that will expire or become vacant on December 31, 2016.

Applicants with experience in the following sectors of the marine transportation industry with at least 5 years of practical experience in their field are encouraged to apply. We are looking for:

• At least one individual who represents the interests of the port authorities;

• At least one individual who represents the interests of the facilities owners or operators;

• At least one individual who represents the interests of the terminal owners or operators;

• At least one individual who represents the interests of the vessel owners or operators;

• At least one individual who represents the interests of the maritime labor organizations;

• At least one individual who represents the interests of the academic community;

• At least one individual who represents the interests of State and local governments; and

• At least one individual who represents the interests of the maritime industry.

Due to the nature of National Maritime Security Advisory Committee business, National Maritime Security Advisory Committee members are required to apply for, obtain, and maintain a government national security clearance at the Secret level. The Coast Guard will sponsor and assist candidates with this process.

The Department of Homeland Security does not discriminate in selection of committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the committee, send your complete application package to Mr. Ryan Owens, Alternate Designated Federal Officer of the National Maritime Security Advisory Committee via one of the transmittal methods in the ADDRESSES section by the deadline in the DATES section of this notice.

Dated: August 21, 2016.
V.B. Gifford,
Captain, U.S. Coast Guard, Director of Inspections and Compliance.

[FR Doc. 2016-20384 Filed 8-24-16; 8:45 am]

BILLING CODE 9110-04-P